DEPARTMENT OF HOUSING AND URBAN DEVELOPMENT

24 CFR Parts 58 and 1005

[Docket No. FR-5593-N-06]

RIN 2577-AD25

Strengthening the Section 184 Indian Housing Loan Guarantee Program; Extension of Compliance Date

AGENCY: Office of the Assistant Secretary for Public and Indian Housing, HUD.

ACTION: Final rule; extension of compliance date.

SUMMARY: This document indefinitely delays the compliance date for HUD's final rule entitled “Strengthening the Section 184 Indian Housing Loan Guarantee Program” published on March 20, 2024 until HUD completes necessary updates to the handbook, which will provide necessary guidance for implementing the final rule.

DATES: The compliance date announced on January 17, 2025, at 90 FR 5604, is indefinitely delayed. HUD will publish a document in the Federal Register announcing a new compliance date.

FOR FURTHER INFORMATION CONTACT: Chung-Yiu “Andrew” Lee, Senior Native American Policy Advisor, Office of Loan Guarantee, Office of Native American Programs, Office of Public and Indian Housing, Department of Housing and Urban Development, 451 7th Street SW, Room 4108, Washington, DC 20410; email at Section184comments@hud.gov or telephone number 202-402-6190 (this is not a toll-free number). HUD welcomes and is prepared to receive calls from individuals who are deaf or hard of hearing, as well as individuals with speech or communication disabilities. To learn more about how to make an accessible telephone call, please visit https://www.fcc.gov/consumers/guides/telecommunications-relay-service-trs.

SUPPLEMENTARY INFORMATION:

I. Background

On March 20, 2024, HUD published the final rule (89 FR 20032), which amended the regulations to the Section 184 Indian Housing Loan Guarantee Program (Section 184 Program). Since its inception, the Section 184 Program has experienced an increase in demand. As a result, the final rule updated program regulations to minimize potential risk and increase program participation by financial institutions, and added eligibility and participation requirements for Lender Applicants, Direct Guarantee Lenders, Non-Direct Guarantee Lenders, Holders and Servicers and other Section 184 Program participants. The final rule also clarified the rules governing Tribal participation in the program, established underwriting requirements, specifies rules on the closing and endorsement process, established stronger and clearer servicing requirements, established program rules governing claims submitted by servicers and paid by HUD, and added standards governing monitoring, reporting, sanctions, and appeals. Lastly, the final rule added new definitions and makes statutory conforming amendments, including the categorical exclusion of the Section 184 Program in HUD's environmental review regulations.

On June 14, 2024, HUD published a document in the Federal Register (89 FR 50523) announcing that the final rule's effective date would be delayed from June 18, 2024, to December 31, 2024, with a compliance date of March 1, 2025. Subsequently, HUD published an additional document in Federal Register (90 FR 5604) extending the compliance date for the final rule from March 1, 2025, to December 31, 2025.

II. Delay of Compliance Date

HUD is currently drafting a handbook to implement the final rule. The handbook will provide comprehensive guidance and clarification for all stakeholders to fully understand and implement the final rule. Given the size of the handbook, its accompanying forms, level of additional consultation with stakeholders needed to complete the handbook, and intensive training on key components of the new handbook that must be given to stakeholders, HUD has determined that it needs additional time before enforcing the final rule. Further, HUD has heard from Tribes, lenders, servicers, and other participants that additional time is needed after the publication of the handbook for these stakeholders to conform their policies, procedures, and systems to comply with the handbook and the final rule.

As a result of these factors, HUD is therefore indefinitely delaying the compliance date of the final rule. When HUD completes updates to the handbook, HUD will publish an additional Federal Register notice announcing a new compliance date for the final rule. This future notice will provide a reasonable time for implementation before requiring compliance, of at least 30 and up to 90 days after the publication of the notice.

Benjamin Hobbs,
Principal Deputy Assistant Secretary for Public and Indian Housing.

[FR Doc. 2025-23884 Filed 12-23-25; 8:45 am]

BILLING CODE 4210-67-P